DEPARTMENT OF TRANSPORTATION

Federal Aviation Administration

[Docket No. FAA-2016-9346]

Passenger Facility Charge (PFC) Program; Draft FAA Order 5500.1B

AGENCY: Federal Aviation Administration (FAA), DOT.

ACTION: Notice of withdrawal.

SUMMARY: FAA is rescinding the draft FAA Order 5500.1B, Passenger Facility Charge published on August 5, 2016, and withdrawing its request for public review and comment.

DATES: The FAA previously extended the comment period to October 31, 2016. FAA subsequently established a public Docket FAA 2016-9346 and comments received will be entered into the public Docket.

FOR FURTHER INFORMATION CONTACT: Joe Hebert, Manager, Financial Analysis and Passenger Facility Charge Branch, APP-510, Federal Aviation Administration, 800 Independence Avenue SW., Washington, DC 20591, telephone (202) 267-8375; facsimile (202) 267-5302.

SUPPLEMENTARY INFORMATION: On August 5, 2016, the FAA published a notice and request for comments titled “Passenger Facility Charge (PFC) Program; Draft FAA Order 5500.1B” (81 FR 51963). The notice requested interested parties submit written comments by September 30, 2016. On September 21, 2016, the FAA extended the original comment period by 31 days, from September 30, 2016, to October 31, 2016.

After careful consideration, the FAA has decided to rescind the draft Order and cancel the public review process. The FAA will issue a revised draft in the near future for public review and comment.

Issued in Washington, DC, on October 31, 2016.
Elliott Black,
Director, Office of Airport Planning and Programming.

[FR Doc. 2016-26630 Filed 11-3-16; 8:45 am]

BILLING CODE 4910-13-P